DEPARTMENT OF STATE

[Public Notice: 11440]

Notice of Public Meeting

As required by the Federal Advisory Committee Act, Public Law 92-463, the Department of State gives notice of a meeting of the Advisory Committee on International Postal and Delivery Services. This Committee will meet virtually on Thursday, July 15, 2021, from 1:00 p.m. to 5:00 p.m. Eastern Time, hosted on a Webex platform, meeting number 199 494 5652, code ddMnU572653 (33668572 from phones).

Members of the public interested in providing input to the meeting should contact Ms. Shereece Robinson, whose contact information is listed below (see the for further information section of this notice). Individuals providing oral input are requested to limit their comments to five minutes. Requests to be added to the speakers list must be received in writing (by email) prior to the close of business on Thursday, July 8, 2021; written comments from members of the public for distribution at this meeting must reach Ms. Robinson by email on this same date. Requests received after that date, including any requests for reasonable accommodation, will be considered but might not be able to be fulfilled.

The agenda of the meeting will focus on U.S. positions on issues for the 27th Congress of the Universal Postal Union, currently scheduled for August 9-27 in Abidjan, Cote d'Ivoire. Issues under consideration at the Congress include modifications to the rules of procedure to allow hybrid (i.e., mixed virtual and physically present) Congresses, the opening of the UPU to wider postal sector actors, reform of the system of member states' contributions, and interpretation of the 2019 Geneva accord on compensation for E-format items.

FOR FURTHER INFORMATION CONTACT: Please contact Ms. Shereece Robinson of the Office of Specialized and Technical Agencies (IO/STA), Bureau of International Organization Affairs, U.S. Department of State, at tel. (202) 538-4442 or by email at RobinsonSA2@state.gov.

Zachary A. Parker,
Director, Office of Directives Management, U.S. Department of State.

[FR Doc. 2021-12434 Filed 6-11-21; 8:45 am]

BILLING CODE 4710-19-P